DEPARTMENT OF TRANSPORTATION

Federal Aviation Administration

14 CFR Part 39

[Docket No. FAA-2017-0450; Directorate Identifier 2017-CE-013-AD; Amendment 39-18883; AD 2017-10-09]

RIN 2120-AA64

Airworthiness Directives; Textron Aviation Inc. Airplanes

AGENCY: Federal Aviation Administration (FAA), DOT.

ACTION: Final rule; request for comments.

SUMMARY: We are adopting a new airworthiness directive (AD) for certain Textron Aviation Inc. Models 402C and 414A airplanes (type certificate previously held by Cessna Aircraft Company). This AD requires inspecting the nacelle fittings for cracks, replacing if necessary, and reporting the results of the inspection to the FAA. This AD was prompted by reports of cracks found on certain nacelle fittings. We are issuing this AD to correct the unsafe condition on these products.

DATES: This AD is effective June 7, 2017.

The Director of the Federal Register approved the incorporation by reference of a certain publication listed in this AD as of June 7, 2017.

We must receive comments on this AD by July 7, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact Textron Aviation Inc., Textron Aviation Customer Service, One Cessna Blvd., Wichita, Kansas 67215; telephone: (316) 517-5800; email: corpcomm@txtav.com; Internet: www.txtav.com. You may view this service information at the FAA, Small Airplane Directorate, 901 Locust, Kansas City, Missouri 64106. For information on the availability of this material at the FAA, call (816) 329-4148. It is also available on the Internet at http://www.regulations.gov by searching for and locating Docket No. FAA-2017-0450.

Examining the AD Docket

You may examine the AD docket on the Internet at http://www.regulations.gov by searching for and locating Docket No. FAA-2017-0450; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Paul Chapman, Aerospace Engineer, Wichita Aircraft Certification Office, 1801 Airport Road, Room 100, Wichita, Kansas 67209; telephone: (316) 946-4152; fax: (316) 946-4107, email: paul.chapman@faa.gov or Wichita-COS@faa.gov.

SUPPLEMENTARY INFORMATION:

Discussion

We received a report from an operator who discovered a failed nacelle fitting on a Textron Aviation Inc. Model 402C airplane. The nacelle fitting was completely cracked through and no longer functioned as intended.

Investigation revealed that the part was not manufactured in accordance with the design specification. We have determined that out-of-tolerance parts may lead to premature failure caused by metal fatigue.

The Textron Aviation Inc. Model 414A airplanes share a similar design in the affected area to that of the Model 402C airplanes.

This condition, if not corrected, could result in failure of the nacelle fitting, which could lead to engine nacelle separation and loss of control. We are issuing this AD to correct the unsafe condition on these products.

Related Service Information Under 1 CFR Part 51

We reviewed Textron Aviation Mandatory Multi-engine Service Letter MEL-54-02, Revision 2, dated March 29, 2017. The service letter describes procedures for inspecting the nacelle fittings for cracks and replacing if necessary. This service information is reasonably available because the interested parties have access to it through their normal course of business or by the means identified in the ADDRESSES.

FAA's Determination

We are issuing this AD because we evaluated all the relevant information and determined the unsafe condition described previously is likely to exist or develop in other products of the same type design.

AD Requirements

This AD requires accomplishing the actions specified in the service information described previously. This AD also requires sending the inspection results to the FAA so that appropriate information can be evaluated for any possible change in future inspections.

FAA's Justification and Determination of the Effective Date

An unsafe condition exists that requires the immediate adoption of this AD. The FAA has found that the risk to the flying public justifies waiving notice and comment prior to adoption of this rule because cracks in the nacelle fitting may cause the fitting to fail, which could lead to engine nacelle separation and loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2017-0450 and Directorate Identifier 2017-CE-013-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 555 airplanes of U.S. registry.

We estimate the following costs to comply with this AD:

Estimated Costs
Action | Labor cost | Parts cost | Cost per product | Cost on U.S. operators
Inspect nacelle fittings | 2 work-hours × $85 per hour = $170 | N/A | $170 | $94,350

We estimate the following costs to do any necessary replacements that will be required based on the results of the inspection. We have no way of determining the number of airplanes that may need these replacements:

On-Condition Costs
Action | Labor cost | Parts cost | Cost per product
Replace nacelle fitting P/N 5292029-21 (this is the replacement part for P/N 5292029-9, which is no longer in production) | 80 work-hours × $85 per hour = $6,800 | $4,084 | $10,884
Replace nacelle fitting P/N 5292029-22 (this is the replacement part for P/N 5292029-10, which is no longer in production) | 80 work-hours × $85 per hour = $6,800 | 3,985 | 10,785
Replace nacelle fitting P/N 5292029-23 (this is the replacement part for P/N 5292029-11, which is no longer in production) | 80 work-hours × $85 per hour = $6,800 | 5,373 | 12,173
Replace nacelle fitting P/N 5292029-24 (this is the replacement part for P/N 5292029-12, which is no longer in production) | 80 work-hours × $85 per hour = $6,800 | 5,373 | 12,173
Replace nacelle fitting P/N 5292029-21 and P/N 5292029-23 (both left-hand engine beam fittings) | 128 work-hours × $85 per hour = $10,880 | 4,084 5,373 | 20,337
Replace nacelle fitting P/N 5292029-22 and P/N 5292029-24 (both right-hand engine beam fittings) | 128 work-hours × $85 per hour = $10,880 | 3,985 5,373 | 20,238

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-10-09 Textron Aviation Inc.: Amendment 39-18883; Docket No. FAA-2017-0450; Directorate Identifier 2017-CE-013-AD.

(a) Effective Date

This AD is effective June 7, 2017.

(b) Affected ADs

None.

(c) Applicability

This AD applies to Textron Aviation Inc. (type certificate previously held by Cessna Aircraft Company) Model 402C airplanes, serial numbers 402C0001 through 402C1020, and Model 414A airplanes, serial numbers 414A0001 through 414A1212, that are certificated in any category; and are equipped with either of the following:

(1) Cessna Multi-Engine Service Kit SK402-47, “Lower Front Wing Spar Cap Inspection/Modification,” Original Issue, Revision A, or Revision B; or

(2) Nacelle fittings part numbers (P/Ns) 5292029-9, 5292029-10, 5292029-11, 5292029-12, 5292029-21, 5292029-22, 5292029-23, or 5292029-24.

Note 1 to paragraph (c) of this AD: P/Ns 5292029-9, 5292029-10, 5292029-11, 5292029-12, 5292029-21, 5292029-22, 5292029-23, or 5292029-24 were installed when the Cessna Multi-Engine Service Kit SK402-47 was installed.

(d) Subject

Joint Aircraft System Component (JASC)/Air Transport Association (ATA) of America Code 5415; Nacelles/Pylons.

(e) Unsafe Condition

This AD was prompted by reports of cracks found on certain nacelle fittings. We are issuing this AD to detect and correct cracks on the nacelle fitting, which could cause the nacelle fitting to fail. This failure could result in engine nacelle separation and loss of control. We are issuing this AD to correct the unsafe condition on these products.

(f) Compliance

Comply with this AD within the compliance times specified, unless already done.

(g) Inspection

Inspect the nacelle fitting following the Accomplishment Instructions (except for paragraph 6) in Textron Aviation Mandatory Multi-engine Service Letter MEL-54-02, Revision 2, dated March 29, 2017, at the applicable compliance times specified in paragraphs (g)(1) through (2) of this AD.

(1) For airplanes with less than 7,400 hours time-in-service (TIS) on the affected nacelle fitting: Before or upon accumulating 3,500 hours (TIS) on the nacelle fitting or within the next 100 hours TIS after June 7, 2017 (the effective date of this AD), whichever occurs later. Repetitively thereafter inspect every 120 hours TIS until the nacelle fitting has reached 7,500 hours TIS. When the airplane reaches 7,500 hours TIS on the affected nacelle fitting, the repetitive inspection time must be changed to 60 hours TIS. A 10-hour TIS grace period is allowed for those airplanes between 51 and 110 hours TIS for the first repetitive inspection when the airplane reaches 7,500 hours TIS on the nacelle.

(2) For airplanes with 7,400 hours TIS or more on the affected nacelle fitting: Before or upon accumulating 7,500 hours TIS on the nacelle fitting or within the next 25 hours TIS after June 7, 2017 (the effective date of this AD), whichever occurs later. Repetitively thereafter inspect every 60 hours TIS.

(h) Replacement

(1) If cracks are found during any inspection required in paragraph (g) of this AD, before further flight, replace the cracked nacelle fitting.

(2) If a cracked nacelle fitting P/N 5292029-9, 5292029-10, 5292029-11, 5292029-12, 5292029-21, 5292029-22, 5292029-23, or 5292029-24, is replaced with a new nacelle fitting P/N 5292029-9, 5292029-10, 5292029-11, 5292029-12, 5292029-21, 5292029-22, 5292029-23, or 5292029-24, the new part is subject to the requirements of this AD.

(i) Reporting Requirement

Within 10 days after doing the initial inspection in paragraph (g) of this AD or within 10 days after June 7, 2017 (the effective date of this AD), whichever occurs later, using the Attachment to Textron Aviation Mandatory Multi-engine Service Letter MEL-54-02, Revision 2, dated March 29, 2017, “Visual Inspection Results Form,” complete the report and send a copy to the Wichita Aircraft Certification Office (ACO) at the address listed in paragraph (m) of this AD or by email to Wichita-COS@faa.gov.

(j) Credit for Actions Accomplished in Accordance With Previous Service Information

This AD allows credit for the inspections required in paragraph (g) of this AD if done before June 7, 2017 (the effective date of this AD), following Textron Aviation Mandatory Multi-engine Service Letter MEL-54-02, dated December 23, 2016, or Textron Aviation Mandatory Multi-engine Service Letter MEL-54-02, Revision 1, dated March 22, 2017.

(k) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m) of this AD.

(2) Before using any approved AMOC, notify your appropriate principal inspector, or lacking a principal inspector, the manager of the local flight standards district office/certificate holding district office.

(m) Related Information

For more information about this AD, contact Paul Chapman, Aerospace Engineer, Wichita ACO, 1801 Airport Road, Room 100, Wichita, Kansas 67209; telephone: (316) 946-4152; fax: (316) 946-4107; email: paul.chapman@faa.gov or Wichita-COS@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Textron Aviation Mandatory Multi-engine Service Letter MEL-54-02, Revision 2, dated March 29, 2017.

(ii) Reserved.

(3) For Textron Aviation Inc. service information identified in this AD, contact Textron Aviation Inc., Textron Aviation Customer Service, One Cessna Blvd., Wichita, KS 67215; telephone: (316) 517-5800; email: corpcom@txtav.comm; Internet: www.txtav.com.

(4) You may view this service information at the FAA, Small Airplane Directorate, 901 Locust, Kansas City, Missouri 64106. For information on the availability of this material at the FAA, call (816) 329-4148. It is also available on the internet at http://www.regulations.gov by searching for and locating Docket No. FAA-2017-0450.

(5) You may view this service information that is incorporated by reference at the National Archives and Records Administration (NARA). For information on the availability of this material at NARA, call 202-741-6030, or go to: http://www.archives.gov/federal-register/cfr/ibr-locations.html.

Issued in Kansas City, Missouri, on May 9, 2017.
Melvin Johnson,
Acting Manager, Small Airplane Directorate, Aircraft Certification Service.

[FR Doc. 2017-10391 Filed 5-22-17; 8:45 am]

BILLING CODE 4910-13-P